NATIONAL FOUNDATION FOR THE ARTS AND HUMANITIES

IMLS Survey of Educational and Training Opportunities Available for Library Support Staff in the U.S.: Pre-professionals, Paraprofessionals, Library Technicians; Submission for OMB Review, Comment Request

AGENCY: Institute of Museum and Library Services.

ACTION: Notice of requests for New Information Collection Approval.

SUMMARY: The Institute of Museum and Library Studies (IMLS) has submitted the following information collection request for review and clearance in accordance with the Paperwork Reduction Act of 1995. Office of Management and Budget approval is being sought for the information collection listed below. This proposed information collection was previously published in the Federal Register on November 29, 2002, allowing for a 60-day public comment period.

The purpose of this notice is to allow an additional 30 days for public comment until March 14, 2003. This process is conducted in accordance with 5 CFR 1320.10.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden for the collection of information on those who are to respond, including through the use of appropriate automated electronic, mechanical, or other technological collection techniques or other forms of information technology, e.g., permitting electronic submission of responses.

FOR FURTHER INFORMATION CONTACT: Comments should be sent to Office of Information and Regulatory Affairs, Attn.: OMB Desk Officer for Education, Office of Management and Budget, Room 10235, Washington, DC 20503 (202) 395-7316.

ADDRESSES: For a copy of the form contact: Mamie Bittner, Director of Legislative and Public Affairs, Institute of Museum and Library Services, 1100 Pennsylvania Ave., NW., Room 510, Washington, DC 20506.

Overview of this information:

(1) Type of information collection: New collection.

(2) The title of the form/collection: Survey of Education and Training Opportunities for Pre-/Paraprofessional Library (Support) Staff

(3) The agency form number, if any, and the applicable component of the Department sponsoring the collection: No form number. Institute of Museum and Library Services.

(4) Affected public who will be asked or required to respond, as well as a brief abstract:

Primary: Institutions offering education programs or providing training courses targeted to pre-/paraprofessional library (support) staff including academic institutions, state library agencies, library associations, library consortia or cooperatives, and commercial training entities.

Other: Select county library systems and individual libraries.

This collection will help to identify and describe programs (e.g., associate degrees; bachelor degrees; certificates) and individual course/training offerings that are targeted toward non-MLS-degreed library workers. A major outcome of this project will be an inventory of resources for the library community to help identify specific programs/instruction. By identifying the population of organizations administering paraprofessional training and by describing the kinds of courses offered, this study will draw attention to topics (and areas of the country) where this type of education and training coursework is and is not available.

The resulting baseline inventory will be used to document the adequacy of—and analyze trends within—educational and training programs and courses throughout the United States designed to develop library staff who do not currently possess a Master's in Library Science (MLS) degree. Within the limitations of any one study, we will seek ways to identify how these institutions strive to advance the library support staff worker beyond current positions, responsibilities, or capabilities. Through this research effort, we will attempt to isolate elements that contribute to success and highlight those that have incorporated these factors into their programs.

(5) An estimate of the total number of respondents and the amount of time estimated for an average respondent to respond/reply: It is estimated that there will be 300 respondents. It is estimated that each survey will take 0.5 hours (30 minutes to complete) and, as the average respondent will have two programs or courses for which to complete a survey, the average respondent will require one hour to complete the data collection.

(6) An estimate of the total public burden (in hours) associated with the collection: The total hour burden to complete the survey is 300 annual burden hours.

Dated: February 4, 2003.
Mamie Bittner,
Department Clearance Officer, Institute of Museum and Library Services.

[FR Doc. 03-3422 Filed 2-11-03; 8:45 am]

BILLING CODE 7036-01-M